NEIGHBORHOOD REINVESTMENT CORPORATION

Audit Committee Sunshine Act Meeting

TIME AND DATE: 2 p.m., Tuesday, March 3, 2015.

PLACE: NeighborWorks America—Gramlich Boardroom, 999 North Capitol Street NE., Washington DC 20002.

STATUS: Open (with the exception of Executive Sessions).

CONTACT PERSON: Jeffrey Bryson, General Counsel/Secretary (202) 760-4101; jbryson@nw.org.

AGENDA:

I. Call To Order

II. Presentation with the External Auditor

III. Executive Session with the External Auditor

IV. Executive Session with the Chief Audit Executive

V. Executive Session: Pending Litigation

VI. Internal Audit Reports with Management's Response

VII. Internal Audit Status Reports

VIII. Compliance Updates

IX. OHTS Watch List Review

X. Other External Audit Reports

XI. Adjournment

Jeffrey T. Bryson,
EVP & General Counsel/Corporate Secretary.

[FR Doc. 2015-03876 Filed 2-20-15; 4:15 pm]

BILLING CODE 7570-02-P